DEPARTMENT OF HEALTH AND HUMAN SERVICES

National Institutes of Health

National Institute of Environmental Health Sciences Amended; Notice of Meeting

Notice is hereby given of a change in the meeting of the National Institute of Environmental Health Sciences Special Emphasis Panel, which was published in the Federal Register on October 30, 2019, 84 FR 58164.

The National Institute of Environmental Health Sciences Special Emphasis Panel Meeting: E-Learning for Hazmat and Emergency Response, is being amended due to a change in the meeting time. This one day meeting will be held on November 12th, 2019 at 1:00 p.m. and will end at 4:00 p.m. This meeting is closed to the public.

Dated: November 7, 2019.
Tyeshia M. Roberson,
Program Analyst, Office of Federal Advisory Committee Policy.

[FR Doc. 2019-24777 Filed 11-14-19; 8:45 am]

BILLING CODE 4140-01-P